NATIONAL SCIENCE FOUNDATION

Sunshine Act Meetings

FEDERAL REGISTER CITATION OF PREVIOUS ANNOUNCEMENT: 86 FR 17644, April 5, 2021.

PREVIOUSLY ANNOUNCED TIME AND DATE OF THE MEETING: The National Science Board's Committee on Strategy closed teleconference meeting was scheduled for April 8, 2021, from 11 a.m.-12:00 p.m. EDT. This meeting was postponed in FR document 2021-07589, scheduled to be published on April 13, 2021.

CHANGES IN THE MEETING: The new date and time is April 14, 2021, from 3:00-4:00 p.m. EDT.

CONTACT PERSON FOR MORE INFORMATION: Chris Blair, 703/292-7000, cblair@nsf.gov.

Chris Blair,
Executive Assistant to the National Science Board Office.

[FR Doc. 2021-07725 Filed 4-12-21; 4:15 pm]

BILLING CODE 7555-01-P